FEDERAL COMMUNICATIONS COMMISSION

[IB Docket No. 16-185; DA 22-1204; FR 116210]

Informal Working Group-1, Informal Working Group-2, Informal Working Group-3, and Informal Working Group-4 of the World Radiocommunication Conference Advisory Committee Schedule Their Meetings

AGENCY: Federal Communications Commission.

ACTION: Notice.

SUMMARY: This notice advises interested persons that Informal Working Group 1 (IWG-1), Informal Working Group 2 (IWG-2,) Informal Working Group 3 (IWG-3,) and Informal Working Group 4 (IWG-4) of the 2023 World Radiocommunication Conference Advisory Committee (WRC-23 Advisory Committee) have scheduled meetings as set forth below. The meetings are open to the public.

DATES: IWG-3: Tuesday, December 13, 2022 at 11:00 a.m. ET; IWG-4: Tuesday, December 13, 2022 at 1:00 p.m. ET; IWG-3: Tuesday, January 10, 2023 at 11:00 a.m. ET; IWG-4: Tuesday, January 10, 2023 at 1:00 p.m. ET; IWG-1: Wednesday, January 11, 2023 at 10:30 a.m. ET; IWG-2: Wednesday, January 11, 2023 at 1:00 p.m. ET; IWG-1: Tuesday, January 24, 2023 at 10:30 a.m. ET; IWG-2: Tuesday, January 24, 2023 at 1:00 p.m. ET; IWG-3: Tuesday, January 31, 2023 at 11:00 a.m. ET; IWG-4: Tuesday, January 31, 2023 at 1:00 p.m. ET; IWG-3: Thursday, February 16, 2023 at 11:00 a.m. ET; IWG-4: Thursday, February 16, 2023 at 1:00 p.m. ET; IWG-1: Tuesday, February 28, 2023 at 10:30 a.m. ET; IWG-2: Tuesday, February 28, 2023 at 1:00 p.m. ET; IWG-1: Tuesday, March 14, 2023 at 10:30 a.m. ET ; IWG-2: Tuesday, March 14, 2023 at 1:00 p.m. ET ; IWG-1: Wednesday, March 22, 2023 at 10:30 a.m. ET ; IWG-2: Wednesday, March 22, 2023 at 1:00 p.m. ET.

ADDRESSES: The meetings will be held virtually.

FOR FURTHER INFORMATION CONTACT: Dante Ibarra, Designated Federal Official, World Radiocommunication Conference Advisory Committee, FCC International Bureau, Global Strategy and Negotiation Division, at Dante.Ibarra@fcc.gov, (202)-418-0610 or WRC-23@fcc.gov.

SUPPLEMENTARY INFORMATION: The FCC established the Advisory Committee to provide advice, technical support and recommendations relating to the preparation of United States proposals and positions for the 2023 World Radiocommunication Conference (WRC-23).

In accordance with the Federal Advisory Committee Act, Public Law 92-463, as amended, this notice advises interested persons of the IWG-1, IWG-2, IWG-3 and IWG-4 of the WRC-23 Advisory Committee scheduled meetings. The Commission's WRC-23 website (www.fcc.gov/wrc-23) contains the latest information on all scheduled meetings, meeting agendas, and WRC-23 Advisory Committee matters.

Below is additional IWG meeting information:

WRC-23 ADVISORY COMMITTEE

SCHEDULE OF MEETINGS OF INFORMAL WORKING GROUPS 1, 2, 3 AND 4

Informal Working Group 1: Maritime, Aeronautical and Radar Services

Chair—Damon Ladson, dladson@hwglaw.com, (202) 730-1315

Vice Chair—Kim Kolb, kim.l.kolb@boeing.com, (703) 465-3373

FCC Representatives: Louis Bell, louis.bell@fcc.gov, telephone: (202) 418-1641; Gregory Baker, Gregory.baker@fcc.gov, telephone: (202) 418-0611

IWG-1—Meetings

Dates: Wednesday, January 11, 2023, Tuesday, January 24, 2023, Tuesday, February 28, 2023, Tuesday, March 14, 2023, Wednesday, March 22, 2023

Time: 10:30 a.m. ET

Join ZoomGov Meeting: https://fcc-gov.zoomgov.com/j/1609858494?pwd=bzlnZVFhK0xYOEJaa3hHZnMzVFMyQT09

Meeting ID: 160 985 8494

Passcode: 554585

One tap mobile

+16692545252,,1609858494#,,,,*554585# US (San Jose)

+16468287666,,1609858494#,,,,*554585# US (New York)

Dial by your location:

+1 669 254 5252 US (San Jose)

+1 646 828 7666 US (New York)

+1 551 285 1373 US

+1 669 216 1590 US (San Jose)

Meeting ID: 160 985 8494

Passcode: 554585

Find your local number: https://fcc-gov.zoomgov.com/u/ajtFuOgdJ

Informal Working Group 2: Terrestrial Services

Chair—Jayne Stancavage, Jayne.Stancavage@intel.com, (408) 887-3186

Vice Chair—Daudeline Meme, daudeline.meme@verizon.com, (202) 253-8362

FCC Representatives: Louis Bell, louis.bell@fcc.gov, telephone: (202) 418-1641; Dante Ibarra, dante.ibarra@fcc.gov, telephone: (202) 418-0610

IWG-2—Meetings

Dates: Wednesday, January 11, 2023, Tuesday, January 24, 2023, Tuesday, February 28, 2023, Tuesday, March 14, 2023, Wednesday, March 22, 2023

1:00 p.m. ET

Join ZoomGov Meeting: https://fcc-gov.zoomgov.com/j/1606889204?pwd=Z0FYemN2djlFeHlROFZMN0RvQ3JMUT09

Meeting ID: 160 688 9204

Passcode: 332612

One tap mobile

+16692545252,,1606889204#,,,,*332612# US (San Jose)

+16468287666,,1606889204#,,,,*332612# US (New York)

Dial by your location:

+1 669 254 5252 US (San Jose)

+1 646 828 7666 US (New York)

+1 551 285 1373 US

+1 669 216 1590 US (San Jose)

Meeting ID: 160 688 9204

Passcode: 332612

Find your local number: https://fcc-gov.zoomgov.com/u/aeJeShcBGT

Informal Working Group 3: Space Services

Chair—Giselle Creeser, giselle.creeser@intelsat.com, (703) 559-7851

Vice Chair—Ryan Henry, ryan.henry@ses.com, (202) 878-9360

FCC Representatives: Clay DeCell, clay.decell@fcc.gov, telephone: (202) 418-0803; Kathyrn Medley, kathyrn.medley@fcc.gov, telephone: (202) 418-1211; Eric Grodsky, eric.grodsky@fcc.gov, telephone: (202) 418-0563; Dante Ibarra, dante.ibarra@fcc.gov, telephone: (202) 418-0610

IWG-3—Meetings

Dates: Tuesday, December 13, 2022, Tuesday, January 10, 2023, Tuesday, January 31, 2023, Thursday, February 16, 2023, Tuesday, March 7, 2023, Tuesday, March 21, 2023

Time: 11:00 a.m. ET

Join ZoomGov Meeting: https://fcc-gov.zoomgov.com/j/1607372803?pwd=L3BRaUJ2N1FrTDB3cmFSUnVMVzMxQT09

Meeting ID: 160 737 2803

Passcode: 970658

One tap mobile

+16692545252,,1607372803#,,,,*970658# US (San Jose)

+16468287666,,1607372803#,,,,*970658# US (New York)

Dial by your location:

+1 669 254 5252 US (San Jose)

+1 646 828 7666 US (New York)

+1 669 216 1590 US (San Jose)

+1 551 285 1373 US

Meeting ID: 160 737 2803

Passcode: 970658

Find your local number: https://fcc-gov.zoomgov.com/u/aITdLAKu6

Informal Working Group 4: Regulatory Issues

Chair—Stephen Baruch, sbaruch@newwavespectrum.com, (240) 476-2600

Vice Chair—Alex Epshteyn, epshtey@amazon.com, (703) 963-6136

FCC Representatives: Dante Ibarra, dante.ibarra@fcc.gov, telephone: (202) 418-0610; Clay DeCell, clay.decell@fcc.gov, telephone: (202) 418-0803

IWG-4—Meetings

Dates: Tuesday, December 13, 2022, Tuesday, January 10, 2023, Tuesday, January 31, 2023, Thursday, February 16, 2023, Tuesday, March 7, 2023, Tuesday, March 21, 2023

Time: 1:00 p.m. ET

Join ZoomGov Meeting: https://fcc-gov.zoomgov.com/j/1600725771?pwd=d3pCNS9FY2RhWGVaQWFaeVBCQ2EwUT09

Meeting ID: 160 072 5771

Passcode: 624667

One tap mobile

+16692545252,,1600725771#,,,,*624667# US (San Jose)

+16468287666,,1600725771#,,,,*624667# US (New York)

Dial by your location:

+1 669 254 5252 US (San Jose)

+1 646 828 7666 US (New York)

+1 669 216 1590 US (San Jose)

+1 551 285 1373 US

Meeting ID: 160 072 5771

Passcode: 624667

Find your local number: https://fcc-gov.zoomgov.com/u/adlrIfZWcR

Federal Communications Commission.
Nese Guendelsberger,
Deputy Chief, International Bureau.

[FR Doc. 2022-26341 Filed 12-2-22; 8:45 am]

BILLING CODE 6712-01-P